DEPARTMENT OF COMMERCE

International Trade Administration

[A-570-909]

Certain Steel Nails From the People's Republic of China: Preliminary Results of the Antidumping Duty Administrative Review and Preliminary Determination of No Shipments; 2013-2014

AGENCY: Enforcement and Compliance, International Trade Administration, Department of Commerce.

SUMMARY: The Department of Commerce (“Department”) is conducting the sixth administrative review of the antidumping duty order on certain steel nails (“nails”) from the People's Republic of China (“PRC”).¹ The Department selected two respondents for individual review.² The Department preliminarily determines that Stanley sold subject merchandise in the United States at prices below normal value (“NV”) during the period of review (“POR”), August 1, 2013, through July 31, 2014. The Department also preliminarily determines that Shandong Oriental Cherry failed to cooperate to the best of its ability in participating in the review, warranting the application of facts otherwise available with adverse inferences, and that it is part of the PRC-wide entity. If these preliminary results are adopted in the final results, the Department will instruct U.S. Customs and Border Protection (“CBP”) to assess antidumping duties on all appropriate entries of subject merchandise during the POR. Interested parties are invited to comment on these preliminary results.

¹ See Notice of Antidumping Duty Order: Certain Steel Nails from the People's Republic of China, 73 FR 44961 (August 1, 2008) (“Order”).

² Stanley Works (Langfang) Fastening Systems Co., Ltd. and Stanley Black & Decker, Inc. (collectively “Stanley”), and Shandong Oriental Cherry Hardware Group., Ltd. (“Shandong Oriental Cherry”).

DATES: Effective Date: September 4, 2015.

FOR FURTHER INFORMATION CONTACT: Matthew Renkey or Julia Hancock, AD/CVD Operations, Office V, Enforcement and Compliance, International Trade Administration, U.S. Department of Commerce, 14th Street and Constitution Avenue NW., Washington, DC 20230; telephone: 202-482-2312 or 202-482-1394, respectively.

SUPPLEMENTARY INFORMATION:

Background

On September 30, 2014, the Department initiated the sixth administrative review of the antidumping duty order on nails from the PRC for the period August 1, 2013, through July 31, 2014.³ On April 14, 2015, the Department partially extended the deadline for issuing the preliminary results by 100 days.⁴ On July 10, 2015, the Department fully extended the deadline for issuing the preliminary results by 20 days,⁵ to August 31, 2015.

³ See Initiation of Antidumping and Countervailing Duty Administrative Reviews, 79 FR 58729 (September 30, 2014) (“Initiation Notice”).

⁴ See Memorandum to Gary Taverman, Senior Advisor for Antidumping and Countervailing Duty Operations, through James C. Doyle, Director, Office V, Antidumping and Countervailing Duty Operations regarding “Certain Steel Nails from the People's Republic of China: Extension of Deadline for Preliminary Results of 2013-2014 Antidumping Duty Administrative Review,” dated April 14, 2015.

⁵ See Memorandum to Gary Taverman, Senior Advisor for Antidumping and Countervailing Duty Operations, through James C. Doyle, Director, Office V, Antidumping and Countervailing Duty Operations regarding “Certain Steel Nails from the People's Republic of China: Extension of Deadline for Preliminary Results of 2013-2014 Antidumping Duty Administrative Review,” dated July 10, 2015. We note that second extension of the preliminary results listed the extended deadline as September 1, 2015; however, the correct extended deadline is August 31, 2015.

Scope of the Order

The merchandise covered by the order includes certain steel nails having a shaft length up to 12 inches. Certain steel nails subject to the order are currently classified under the Harmonized Tariff Schedule of the United States (“HTSUS”) subheadings 7317.00.55, 7317.00.65, 7317.00.75, and 7907.00.6000.⁶ While the HTSUS subheadings are provided for convenience and customs purposes, the written description of the scope of the order is dispositive.⁷

⁶ The Department recently added the Harmonized Tariff Schedule category 7907.00.6000, “Other articles of zinc: Other,” to the language of the Order. See Memorandum to Gary Taverman, Senior Advisor for Antidumping and Countervailing Duty Operations, through James C. Doyle, Director, Office 9, Antidumping and Countervailing Duty Operations, regarding “Certain Steel Nails from the People's Republic of China: Cobra Anchors Co. Ltd. Final Scope Ruling,” dated September 19, 2013.

⁷ See “Certain Steel Nails from the People's Republic of China: Decision Memorandum for the Preliminary Results of the 2013-2014 Antidumping Duty Administrative Review,” (“Preliminary Decision Memorandum”), dated concurrently with these results and hereby adopted by this notice, for a complete description of the Scope of the Order.

Preliminary Determination of No Shipments

Based on the no-shipments letters filed by 11 different companies subject to this review, the Department preliminarily determines that these companies did not have any reviewable transactions during the POR. For additional information regarding this determination, including a list of these companies, see the Preliminary Decision Memorandum. Consistent with our assessment practice in non-market economy (“NME”) cases, the Department is not rescinding this review for these companies, but intends to complete the review and issue appropriate instructions to CBP based on the final results of the review.⁸

⁸ See Non-Market Economy Antidumping Proceedings: Assessment of Antidumping Duties, 76 FR 65694, 65694-95 (October 24, 2011) and the “Assessment Rates” section, below.

Preliminary Affiliation and Single Entity Determination

Based on the record evidence for these preliminary results, we find that Shandong Oriental Cherry Hardware Group., Ltd., Shandong Oriental Cherry Hardware Import & Export Co., Ltd., Shandong Oriental Cherry Hardware Group Heze Products Co., Ltd., Jining Huarong Hardware Products Co., Ltd., Jining Dragon Fasteners Co., Ltd., and Jining Yonggu Metal Products Co., Ltd. are affiliated, pursuant to sections 771(33)(A), (E), (F), and (G) of the Tariff Act of 1930, as amended (“the Act”). Additionally, under 19 CFR 351.401(f)(1)-(2) and as facts available, we preliminarily find that these companies should be considered a single entity, (collectively known as the “Shandong Oriental Cherry Entity”), for purposes of these preliminary results.⁹

⁹ For further information, please see the Preliminary Decision Memorandum.

Application of Facts Available and Use of Adverse Inference

As discussed below and in further detail in the Preliminary Decision Memorandum, pursuant to sections 776(a)(2)(A), (B), and (C) of the Act, the Department determines that the use of facts otherwise available is warranted with respect to Shandong Oriental Cherry. Specifically, Shandong Oriental Cherry failed to provide in the form and manner requested by the Department: (1) An accurate, reliable sales reconciliation regarding its reported sales of subject merchandise to the United States during the POR; (2) an accurate, reliable factors of production (“FOP”) database that is reported on a CONNUM-specific basis; and (3) sales data, FOP data, and full product specifications from Shandong Oriental Cherry's affiliate, Jining Dragon Fasteners Co., Ltd., for the shooting nails it sold to the United States during the POR. Additionally, Shandong Oriental Cherry along with its affiliate, Jining Dragon Fasteners Co., Ltd., significantly impeded the proceeding by not providing accurate or complete responses to the Department's questions about its U.S. sales data and FOP data regarding its sales of subject merchandise to the United States during the POR.

The Department finds that, taken together, and as explained in more detail in the Preliminary Decision Memorandum, these deficiencies indicate that the Department cannot rely on Shandong Oriental Cherry's submitted information. In selecting from among the facts otherwise available, pursuant to section 776(b) of the Act, an adverse inference is warranted when the Department has determined that a respondent has failed to cooperate by not acting to the best of its ability to comply with a request for information. Within the meaning of section 776(b) of the Act, the Department preliminarily finds that Shandong Oriental Cherry failed to cooperate by not acting to the best of its ability to comply with the Department's requests for information and that the application of AFA is warranted. As AFA, and as explained in the Preliminary Decision Memorandum, we have found that the Shandong Oriental Cherry Entity has failed to establish its independence from the PRC-wide entity and, as a result, is subject to the PRC-wide entity's rate.

Separate Rates

The Department preliminarily determines that information placed on the record by the mandatory respondent Stanley, as well as by the 20 other separate rate applicants, demonstrates that these companies are entitled to separate rate status. For additional information, see the Preliminary Decision Memorandum.

PRC-Wide Entity

The Department's change in policy regarding conditional review of the PRC-wide entity applies to this administrative review.¹⁰ Under this policy, the PRC-wide entity will not be under review unless a party specifically requests, or the Department self-initiates, a review of the entity. Because no party requested a review of the PRC-wide entity in this review, the entity is not under review and the entity's rate is not subject to change (i.e., 118.04 percent).¹¹ Aside from the no shipments and separate rate companies discussed above, the Department considers all other companies for which a review was requested,¹² as well as the Shandong Oriental Cherry Entity, to be part of the PRC-wide entity. For additional information, see the Preliminary Decision Memorandum; see also Appendix 2 for a list of companies considered as part of the PRC-wide entity.

¹⁰ See Antidumping Proceedings: Announcement of Change in Department Practice for Respondent Selection in Antidumping Duty Proceedings and Conditional Review of the Nonmarket Economy Entity in NME Antidumping Duty Proceedings, 78 FR 65963 (November 4, 2013).

¹¹ See, e.g., id.; Certain Steel Nails from the People's Republic of China: Final Results of Antidumping Duty Administrative Review; 2012-2013, 80 FR 18816, 18817 and accompanying Issues and Decision Memorandum (“AR5 Final Results”).

¹² See Initiation of Antidumping and Countervailing Duty Administrative Reviews, 79 FR 51548, 51549 (August 29, 2014) (“All firms listed below that wish to qualify for separate rate status in the administrative reviews involving NME countries must complete, as appropriate, either a separate rate application or certification * * *”).

Rate for Separate-Rate Companies Not Individually Examined

The statute and the Department's regulations do not address the establishment of a rate to be applied to respondents not selected for individual examination when the Department limits its examination of companies subject to the administrative review pursuant to section 777A(c)(2)(B) of the Act. Generally, the Department looks to section 735(c)(5) of the Act, which provides instructions for calculating the all-others rate in an investigation, for guidance when calculating the rate for respondents not individually examined in an administrative review. Section 735(c)(5)(A) of the Act articulates a preference for not calculating an all-others rate using rates which are zero, de minimis or based entirely on facts available. Accordingly, the Department's usual practice has been to determine the dumping margin for companies not individually examined by averaging the weighted-average dumping margins for the individually examined respondents, excluding rates that are zero, de minimis, or based entirely on facts available.¹³ Consistent with this practice, in this review, we calculated a weighted-average dumping margin for Stanley that is above de minimis and not based entirely on FA; therefore, the Department assigned to the companies not individually examined, but which demonstrated their eligibility for a separate rate, the weighted-average dumping margin calculated for Stanley.

¹³ See Ball Bearings and Parts Thereof From France, Germany, Italy, Japan, and the United Kingdom: Final Results of Antidumping Duty Administrative Reviews and Rescission of Reviews in Part, 73 FR 52823, 52824 (September 11, 2008), and accompanying Issues and Decision Memorandum at Comment 16.

Methodology

The Department conducted this review in accordance with sections 751(a)(1)(B) and 751(a)(2)(A) of the Act. Constructed export prices and export prices have been calculated in accordance with section 772 of the Act. Because the PRC is a non-market economy country within the meaning of section 771(18) of the Act, NV has been calculated in accordance with section 773(c) of the Act.

For a full description of the methodology underlying our conclusions, see the Preliminary Decision Memorandum. The Preliminary Decision Memorandum is a public document and is on file electronically via Enforcement and Compliance's Antidumping and Countervailing Duty Centralized Electronic Service System (“ACCESS”). ACCESS is available to registered users at http://access.trade.gov, and is available to all parties in the Central Records Unit, room B8024 of the main Department of Commerce building. In addition, a complete version of the Preliminary Decision Memorandum can be accessed directly on the internet at http://enforcement.trade.gov/frn/. The signed Preliminary Decision Memorandum and the electronic versions of the Preliminary Decision Memorandum are identical in content.

Preliminary Results of Review

The Department preliminarily determines that the following weighted-average dumping margins exist for the period August 1, 2013, through July 31, 2014:

Exporter | Weighted- average margin (percent)
Stanley | 12.51
Chiieh Yung Metal Ind. Corp | 12.51
Dezhou Hualude Hardware Products Co., Ltd | 12.51
Hebei Cangzhou New Century Foreign Trade Co., Ltd | 12.51
Nanjing Caiqing Hardware Co., Ltd | 12.51
Qingdao D&L Group Ltd | 12.51
SDC International Aust. PTY. Ltd | 12.51
Shandong Dinglong Import & Export Co., Ltd | 12.51
Shanghai Curvet Hardware Products Co., Ltd | 12.51
Shanghai Yueda Nails Industry Co., Ltd | 12.51
Shanxi Hairui Trade Co., Ltd | 12.51
Shanxi Pioneer Hardware Industrial Co., Ltd | 12.51
Shanxi Tianli Industries Co., Ltd | 12.51
S-Mart (Tianjin) Technology Development Co., Ltd | 12.51
Suntec Industries Co., Ltd | 12.51
Tianjin Jinchi Metal Products Co., Ltd | 12.51
Tianjin Jinghai County Hongli Industry & Business Co., Ltd | 12.51
Tianjin Lianda Group Co., Ltd | 12.51
Tianjin Universal Machinery Imp. & Exp. Corporation | 12.51
Tianjin Zhonglian Metals Ware Co., Ltd | 12.51
Xi'an Metals & Minerals Import & Export Co., Ltd | 12.51

Disclosure, Public Comment and Opportunity To Request a Hearing

The Department intends to disclose the calculations used in our analysis to parties in this review within five days of the date of publication of this notice in accordance with 19 CFR 351.224(b).

Interested parties may submit case briefs within 30 days after the date of publication of these preliminary results of review in the Federal Register.¹⁴ Rebuttals to case briefs, which must be limited to issues raised in the case briefs, must be filed within five days after the time limit for filing case briefs.¹⁵ Parties who submit arguments are requested to submit with the argument (a) a statement of the issue, (b) a brief summary of the argument, and (c) a table of authorities.¹⁶ Parties submitting briefs should do so pursuant to the Department's electronic filing system, ACCESS.¹⁷

¹⁴ See 19 CFR 351.309(c)(1)(ii).

¹⁵ See 19 CFR 351.309(d)(1) and (2).

¹⁶ See 19 CFR 351.309(c)(2), (d)(2).

¹⁷ See 19 CFR 351.303 (for general filing requirements).

Any interested party may request a hearing within 30 days of publication of this notice.¹⁸ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 14th Street and Constitution Avenue NW., Washington, DC 20230.¹⁹

¹⁸ See 19 CFR 351.310(c).

¹⁹ See 19 CFR 351.310(d).

The Department intends to issue the final results of this administrative review, which will include the results of our analysis of all issues raised in the case briefs, within 120 days of publication of these preliminary results in the Federal Register, pursuant to section 751(a)(3)(A) of the Act.

Assessment Rates

Upon issuance of the final results, the Department will determine, and CBP shall assess, antidumping duties on all appropriate entries covered by this review.²⁰ The Department intends to issue assessment instructions to CBP 15 days after the publication date of the final results of this review.

²⁰ See 19 CFR 351.212(b).

For assessment purposes, the Department applied the assessment rate calculation method adopted in Antidumping Proceedings: Calculation of the Weighted-Average Dumping Margin and Assessment Rate in Certain Antidumping Proceedings: Final Modification.²¹ For any individually examined respondent whose weighted average dumping margin is above de minimis (i.e., 0.50 percent) in the final results of this review, the Department will calculate importer-specific assessment rates on the basis of the ratio of the total amount of dumping calculated for the importer's examined sales to the total entered value of sales, in accordance with 19 CFR 351.212(b)(1). Where an importer- (or customer-) specific ad valorem rate is greater than de minimis, the Department will instruct CBP to collect the appropriate duties at the time of liquidation.²² Where either a respondent's weighted average dumping margin is zero or de minimis, or an importer- (or customer-) specific ad valorem rate is zero or de minimis, the Department will instruct CBP to liquidate appropriate entries without regard to antidumping duties.²³ For the respondents that were not selected for individual examination in this administrative review and that qualified for a separate rate, the assessment rate will be based on the average of the mandatory respondents.²⁴ We intend to instruct CBP to liquidate entries containing subject merchandise exported by the PRC-wide entity at the PRC-wide rate.

²¹ See Antidumping Proceedings: Calculation of the Weighted-Average Dumping Margin and Assessment Rate in Certain Antidumping Proceedings: Final Modification, 77 FR 8101 (February 14, 2012) in the manner described in more detail in the Preliminary Decision Memorandum.

²² See 19 CFR 351.212(b)(1).

²³ See 19 CFR 351.106(c)(2).

²⁴ See Preliminary Decision Memorandum.

Pursuant to the Department's practice, for entries that were not reported in the U.S. sales databases submitted by companies individually examined during the administrative review, the Department will instruct CBP to liquidate such entries at the PRC-wide rate. Additionally, if the Department determines that an exporter had no shipments of the subject merchandise, any suspended entries that entered under that exporter's case number (i.e., at that exporter's rate) will be liquidated at the PRC-wide rate.²⁵

²⁵ For a full discussion of this practice, see Non-Market Economy Antidumping Proceedings: Assessment of Antidumping Duties, 76 FR 65694 (October 24, 2011).

Cash Deposit Requirements

The following cash deposit requirements will be effective upon publication of the final results of this review for shipments of the subject merchandise from the PRC entered, or withdrawn from warehouse, for consumption on or after the publication date, as provided by sections 751(a)(2)(C) of the Act: (1) For the companies listed above that have a separate rate, the cash deposit rate will be that established in the final results of this review (except, if the rate is zero or de minimis, then zero cash deposit will be required); (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during the POR. Failure to comply with this requirement could result in the Department's presumption that reimbursement of antidumping duties occurred and the subsequent assessment of double antidumping duties.

This preliminary determination is issued and published in accordance with sections 751(a)(1) and 777(i)(1) of the Act, and 19 CFR 351.221(b)(4).

Dated: August 28, 2015.
Paul Piquado,
Assistant Secretary for Enforcement and Compliance.

Appendix 1—List of Topics Discussed in the Preliminary Decision Memorandum

1. Summary

2. Background

3. Scope of the Order

4. Preliminary Determination of No Shipments

5. Non-Market Economy Country Status

6. PRC-Wide Entity

7. Separate Rates

8. Affiliation

9. Application of Facts Available and Use of Adverse Inference

10. Surrogate Country

11. Date of Sale

12. Comparisons to Normal Value

13. Determination of Comparison Method

14. Results of Differential Pricing Analysis

15. U.S. Price

16. Normal Value

17. Factor Valuations

18. Currency Conversion

Appendix 2—Companies Subject to This Administrative Review That Are Considered To Be Part of the PRC-Wide Entity

ABF Freight System, Inc.

Agritech Products Ltd.

Aihua Holding Group Co., Ltd.

Aironware (Shanghai) Co. Ltd.

Anping County Anning Wire Mesh Co.

Anping Fuhua Wire Mesh Making Co.

APM Global Logistics O/B Hasbro Toy

Beijing Daruixing Global Trading Co., Ltd.

Beijing Daruixing Nail Products Co., Ltd.

Beijing Hong Sheng Metal Products Co., Ltd.

Beijing Hongsheng Metal Products Co., Ltd.

Beijing Jinheuang Co., Ltd.

Beijing Kang Jie Kong Cargo Agent

Beijing KJK Intl Cargo Agent Co., Ltd.

Beijing Long Time Rich Tech Develop

Beijing Tri-Metal Co., Ltd.

Beijing Yonghongsheng Metal Products Co., Ltd.

Brighten International, Inc.

Cana (Tianjin) Hardware Ind., Co., Ltd.

Cana (Tianjin) Hardware Industrial Co., Ltd.

Century Shenzhen Xiamen Branch

Changzhou MC I/E Co., Ltd.

Changzhou Quyuan Machinery Co., Ltd.

Changzhou Refine Flag & Crafts Co., Ltd.

Chao Jinqiao Welding Material Co., Ltd.

Chaohu Bridge Nail Industry Co., Ltd.

Chaohu Jinqiao Welding Material Co.

Chewink Corp.

Chiieh Yung Metal Industrial Corp.

Chiieh Yung Metal Industrial Corporation

China Container Line (Shanghai) Ltd.

China Silk Trading & Logistics Co., Ltd.

China Staple Enterprise (Tianjin) Co., Ltd.

Chongqing Hybest Nailery Co., Ltd.

Chongqing Hybest Tools Group Co., Ltd.

Cintee Steel Products Co., Ltd.

Cyber Express Corporation

CYM (Nanjing) Nail Manufacture Co., Ltd.

CYM (Nanjing) Ningquan Nail Manufacture Co., Ltd.

Dagang Zhitong Metal Products Co., Ltd.

Damco Shenzhen

Daxing Niantan Industrial

Delix International Co., Ltd.

Dingzhou Derunda Material and Trade Co., Ltd.

Dingzhou Ruili Nail Production Co., Ltd.

Dong'e Fugiang Metal Products Co., Ltd.

Dongguan Five Stone Machinery Products Trading Co., Ltd.

ECO System Co., Ltd.

ECO System Corporation

Elite International Logistics Co.

Elite Master International Ltd.

England Rich Group (China) Ltd.

Entech Manufacturing (Shenzhen) Ltd.

Expeditors China Tianjin Branch

Faithful Engineering Products Co. Ltd.

Fedex International Freight Forward Agency Services (Shanghai) Co., Ltd.

Feiyin Co., Ltd.

Fension International Trade Co., Ltd.

Foreign Economic Relations & Trade

Fujiansmartness Imp. & Exp. Co., Ltd.

Fuzhou Builddirect Ltd.

Goal Well Stone Co., Ltd.

Gold Union Group Ltd.

Goldever International Logistics Co.

Goldmax United Ltd.

Grace News Inc.

Guangdong Foreign Trade Import & Export Corporation

Guangzhou Qiwei Imports and Exports Co., Ltd.

Guoxin Group Wang Shun I/E Co., Ltd.

GWP Industries (Tianjin) Co., Ltd.

Haierc Industry Co., Ltd.

Haixing Hongda Hardware Production Co., Ltd.

Haixing Linhai Hardware Products Factory

Haiyan Fefine Import and Export Co.

Handuk Industrial Co., Ltd.

Hangzhou Kelong Electrical Appliance & Tools Co. Ltd.

Hangzhou New Line Co., Ltd.

Hangzhou Zhongding Imp. & Exp. Co., Ltd.

Hebei Development Metals Co., Ltd.

Hebei Jinsidun (JSD) Co., Ltd.

Hebei Machinery Import and Export Co., Ltd.

Hebei Minmetals Co., Ltd.

Hebei My Foreign Trade Co., Ltd.

Hebei Super Star Pneumatic Nails Co., Ltd.

Henan Pengu Hardware Manufacturing Co., Ltd.

Hengshui Mingyao Hardware & Mesh Products Co., Ltd.

Heretops (Hong Kong) International Ltd.

Heretops Import & Export Co., Ltd.

Hilti (China) Limited

HK Villatao Sourcing Co., Ltd.

Hong Kong Hailiang Metal Trading Ltd.

Hong Kong Yu Xi Co., Ltd.

Huadu Jin Chuan Manufactory Co Ltd.

Huanghua Honly Industry Corp.

Huanghua Huarong Hardware Products Co., Ltd.

Huanghua Jinhai Metal Products Co., Ltd.

Huanghua Shenghua Hardware Manufactory Factory

Huanghua Xinda Nail Production Co., Ltd.

Huanghua Xiong Hua Hardware Product Co., Ltd.

Huanghua Yufutai Hardware Products Co., Ltd.

Hubei Boshilong Technology Co., Ltd.

Huiyuan Int'l Commerce Exhibition Co., Ltd.

Jiashan Superpower Tools Co., Ltd.

Jiaxing Yaoliang Import & Export Co., Ltd.

Jinhua Kaixin Imp & Exp Ltd.

Jining Huarong Hardware Products

Joto Enterprise Co., Ltd.

Karuis Custom Metal Parts Mfg. Ltd.

Kasy Logistics (Tianjin) Co., Ltd.

K.E. Kingstone

Koram Panagene Co., Ltd.

Kuehne & Nagel Ltd.

Kum Kang Trading Co., Ltd.

Kyung Dong Corp.

Le Group Industries Corp. Ltd.

Leang Wey Int. Business Co., Ltd.

Liang's Industrial Corp.

Lijiang Liantai Trading Co., Ltd.

Linhai Chicheng Arts & Crafts Co., Ltd.

Lins Corp.

Linyi Flying Arrow Imp & Exp. Co., Ltd.

Maanshan Cintee Steel Products Co., Ltd.

Maanshan Leader Metal Products Co. Ltd.

Maanshan Longer Nail Product Co., Ltd.

Manufacutersinchina (HK) Company Ltd.

Marsh Trading Ltd.

Master International Co., Ltd.

Mingguang Abundant Hardware Products Co., Ltd.

Nanjing Dayu Pneumatic Gun Nails Co., Ltd.

Nanjing Yuechang Hardware Co. Ltd.

Nantong Corporation for Internation

Ningbo Bolun Electric Co., Ltd.

Ningbo Dollar King Industrial Co., Ltd.

Ningbo Endless Energy Electronic Co., Ltd.

Ningbo Fension International Trade Center

Ningbo Fortune Garden Tools and Equipment Inc.

Ningbo Haixin Railroad Material Co.

Ningbo Huamao Imp & Exp. Co., Ltd.

Ningbo Hyderon Hardware Co., Ltd.

Ningbo JF Tools Industrial Co., Ltd.

Ningbo KCN Electric Co., Ltd.

Ningbo Meizhi Tools Co., Ltd.

Ningbo Ordam Import & Export Co., Ltd.

OEC Logistics (Qingdao) Co. Ltd.

Omega Products International

OOCL Logistics O B of Winston Marketing Group

Orisun Electronics HK Co., LTd.

Pacole International Ltd.

Panagene Inc.

Pavilion Investmen Ltd.

Perfect Seller Co., Ltd.

Prominence Cargo Service, Inc.

Qianshan Huafeng Trading Co., Ltd.

Qidong Liang Chyuan Metal Industry Co., Ltd.

Qingdao Bestworld Industry Trading

Qingdao D&L Group, Ltd.

Qingdao D&L Group Co., Ltd.

Qingdao Denarius Manufacture Co. Limited

Qingdao Golden Sunshine ELE-EAQ Co., Ltd.

Qingdao International Fastening Systems Inc.

Qingdao Koram Steel Co., Ltd.

Qingdao Lutai Industrial Products Manufacturing Co., Ltd.

Qingdao Meijia Metal Products Co.

Qingdao Rohuida International Trading Co.,

Qingdao Sino-Sun International Trading Company Limited

Qingdao Super United Metals & Wood Prods. Co. Ltd.

Qingdao Tiger Hardware Co., Ltd.

Qingfu Metal Craft Manufacturing Ltd.

Qinghai Wutong (Group) Industry Co.

Qingyuan County Hongyi Hardware Products Factory

Qingyun Hongyi Hardware Factory

Qinhuangdao Kaizheng Industry and Trade Co.

Q-Yield Outdoor Great Ltd.

Region International Co., Ltd.

Richard Hung Ent. Co. Ltd.

River Display Ltd.

Rizhao Changxing Nail-Making Co., Ltd.

Rizhao Handuk Fasteners Co., Ltd.

Rizhao Qingdong Electronic Appliance Co.,

Romp (Tianjin) Hardware Co., Ltd.

Saikelong Electric Appliances (Suzhou) Co.,

Se Jung (China) Shipping Co., Ltd.

SDC International Australia Pty., Ltd.

SDC International Australia (Pty) Ltd.

Senco Products, Inc.

Senco-Xingya Metal Products (Taicang) Co., Ltd.

Shandex Co., Ltd.

Shandex Industrial Inc.

Shandong Liaocheng Minghua Metal Products Co. Ltd.

Shandong Minmetals Co., Ltd.

Shandong Oriental Cherry Entity comprised of Shandong Oriental Cherry Hardware Group., Ltd., Shandong Oriental Cherry Hardware Import & Export Co., Ltd., Shandong Oriental Cherry Hardware Group Heze Products Co., Ltd., Jining Huarong Hardware Products Co., Ltd., Jining Dragon Fasteners Co., Ltd., and Jining Yonggu Metal Products Co., Ltd.

Shanghai Chengkai Hardware Product. Co., Ltd.

Shanghai Colour Nail Co., Ltd.

Shanghai Ding Ying Printing & Dyeing CLO

Shanghai GBR Group International Co.

Shanghai Holiday Import & Export Co., Ltd.

Shanghai Jian Jie International TRA

Shanghai March Import & Export Company Ltd.

Shanghai Mizhu Imp & Exp Corporation

Shanghai Nanhui Jinjun Hardware Factory

Shanghai Pioneer Speakers Co., Ltd.

Shanghai Pudong Int'l Transportation Booking Dep't

Shanghai Seti Enterprise International Co., Ltd.

Shanghai Shengxiang Hardware Co.

Shanghai Suyu Railway Fastener Co.

Shanghai Tengyu Hardware Products Co., Ltd.

Shanghai Tymex International Trade Co., Ltd.

Shanghai Yueda Fasteners Co., Ltd.

Shanxi Tianli Enterprise Co., Ltd.

Shanxi Yuci Wire Material Factory

Shaoguang International Trade Co.

Shaoxing Chengye Metal Producting Co., Ltd.

Shenyang Yulin International

Shenzhen Changxinghongye Imp.

Shenzhen Erisson Technology Co., Ltd.

Shenzhen Meiyuda Trade Co., Ltd.

Shenzhen Pacific-Net Logistics Inc.

Shenzhen Shangqi Imports-Exports TR

Shijiazhuang Anao Imp & Export Co. Ltd.

Shijiazhuang Fangyu Import & Export Corp.

Shijiazhuang Glory Way Trading Co.

Shijiazhuang Fitex Trading Co., Ltd.

Shijiazhuang Shuangjian Tools Co., Ltd.

Shitong Int'l Holding Limited

Shouguang Meiqing Nail Industry Co., Ltd.

Sinochem Tianjin Imp & Exp Shenzhen Corp.

Sirius Global Logistics Co., Ltd.

SMart (Tianjin) Technology Development Co., Ltd.

Sunfield Enterprise Corporation

Sunlife Enterprises (Yangjiang) Ltd.

Sunworld International Logistics

Superior International Australia Pty Ltd.

Suzhou Guoxin Group Wangshun I/E Co. Imp. Exp. Co., Ltd.

Suzhou Xingya Nail Co., Ltd.

Suzhou Yaotian Metal Products Co., Ltd.

Stanley Fastening Systems LP

Shandex Industrial

Telex Hong Kong Industry Co., Ltd.

The Everest Corp.

Thermwell Products

Tian Jin Sundy Co., Ltd. (a/k/a/Tianjin Sunny Co., Ltd.)

Tianjin Baisheng Metal Product Co., Ltd.

Tianjin Bosai Hardware Tools Co., Ltd.

Tianjin Chengyi International Trading Co., Ltd.

Tianjin Chentai International Trading Co., Ltd.

Tianjin City Dagang Area Jinding Metal Products Factory

Tianjin City Daman Port Area Jinding Metal Products Factory

Tianjin City Jinchi Metal Products Co., Ltd.

Tianjin Dagang Dongfu Metallic Products Co., Ltd.

Tianjin Dagang Hewang Nail Factory

Tianjin Dagang Hewang Nails Manufacture Plant

Tianjin Dagang Huasheng Nailery Co., Ltd.

Tianjin Dagang Jingang Nail Factory

Tianjin Dagang Jingang Nails Manufacture Plant

Tianjin Dagang Linda Metallic Products Co., Ltd.

Tianjin Dagang Longhua Metal Products Plant

Tianjin Dagang Shenda Metal Products Co., Ltd.

Tianjin Dagang Yate Nail Co., Ltd.

Tianjin Dery Import and Export Co., Ltd.

Tianjin Everwin Metal Products Co., Ltd.

Tianjin Foreign Trade (Group) Textile & Garment Co., Ltd.

Tianjin Hewang Nail Making Factory

Tianjin Huachang Metal Products Co., Ltd.

Tianjin Huapeng Metal Company

Tianjin Huasheng Nails Production Co., Ltd.

Tianjin Jetcom Manufacturing Co., Ltd.

Tianjin Jieli Hengyuan Metallic Products Co., Ltd.

Tianjin Jietong Hardware Products Co., Ltd.

Tianjin Jietong Metal Products Co., Ltd.

Tianjin Jin Gang Metal Products Co., Ltd.

Tianjin Jinjin Pharmaceutical Factory Co., Ltd.

Tianjin Jishili Hardware Co., Ltd.

Tianjin JLHY Metal Products Co., Ltd.

Tianjin Jurun Metal Products Co., Ltd.

Tianjin Kunxin Hardware Co., Ltd.

Tianjin Kunxin Metal Products Co., Ltd.

Tianjin Lianda Group Ltd.

Tianjin Linda Metal Company

Tianjin Longxing (Group) Huanyu Imp. & Exp. Co., Ltd.

Tianjin Master Fastener Co., Ltd. (a/k/a Master Fastener Co., Ltd.)

Tianjin Mei Jia Hua Trade Co., Ltd.

Tianjin Metals and Minerals

Tianjin Port Free Trade Zone Xiangtong Intl. Industry & Trade Corp.

Tianjin Products & Energy Resources Dev. Co., Ltd.

Tianjin Qichuan Metal Products Co. Ltd.

Tianjin Ruiji Metal Products Co., Ltd.

Tianjin Senbohengtong International

Tianjin Senmiao Import and Export Co., Ltd.

Tianjin Shenyuan Steel Producting Group Co., Ltd.

Tianjin Shishun Metal Product Co., Ltd.

Tianjin Shishun Metallic Products Co., Ltd.

Tianjin Tailai Import Export

Tianjin Universal Machinery Imp & Exp Corporation

Tianjin Universal Machinery Imp. & Exp. Corp. Ltd.

Tianjin Universal Machinery Import & Export Corp.

Tianjin Xiantong Fucheng Gun Nail Manufacture Co., Ltd.

Tianjin Xiantong Juxiang Metal MFG Co., Ltd.

Tianjin Xiantong Material & Trade Co., Ltd.

Tianjin Xinyuansheng Metal Products Co., Ltd.

Tianjin Yihao Metallic Products Co., Ltd.

Tianjin Yongchang Metal Product Co., Ltd.

Tianjin Yongxu Metal Products Co., Ltd.

Tianjin Yongye Furniture

Tianjin Yongyi Standard Parts Production Co., Ltd.

Tianjin Zhong Jian Wanli Stone Co., Ltd.

Tianjin Zhongsheng Garment Co., Ltd.

Tianwoo Logistics Developing Co. Ltd.

Topocean Consolidation Service (CHA) Ltd.

Traser Mexicana, S.A. De C.V.

Treasure Way International Dev. Ltd.

True Value Company (HK) Ltd.

Unicatch Industrial Co. Ltd.

Unigain Trading Co., Ltd.

Union Enterprise (Kunshan) Co., Ltd. a.k.a. Union Enterprise Co., Ltd.

Wintime Import & Export Corporation Limited of Zhongshan

Weifang Xiaotian Machine Co., Ltd.

Wenzhou KLF Medical Plastics Co., Lt.

Wenzhou Ouxin Foreign Trade Co., Ltd.

Wenzhou Yuwei Foreign Trade Co., Ltd.

Winsmart International Shipping Ltd. O/B Zhaoqing Harvest Nails Co., Ltd.

Wintime Import & Export Corporation Limited of Zhongshan

Worldwide Logistics Co., Ltd. (Tianjin Branch)

Wuhan Xinxin Native Produce & Animal By-Products Mfg. Co. Ltd.

Wuhu Sheng Zhi Industrial Co., Ltd.

Wuhu Shijie Hardware Co., Ltd.

Wuhu Xin Lan De Industrial Co., Ltd.

Wuqiao County Huifeng Hardware Products Factory

Wuqiao County Xinchuang Hardware Products Factory

Wuqiao Huifeng Hardware Production Co., Ltd.

Wuxi Baolin Nail Enterprises

Wuxi Baolin Nail-Making Machinery Co., Ltd.

Wuxi Chengye Metal Products Co., Ltd.

Wuxi Colour Nail Co., Ltd.

Wuxi Qiangye Metalwork Production Co., Ltd.

Wuxi Jinde Assets Management Co., Ltd.

Wuxi Moresky Developing Co., Ltd.

Xiamen New Kunlun Trade Co., Ltd.

Xi'an Metals & Minerals Import and Export Co., Ltd.

Xi'an Steel

XL Metal Works Co., Ltd.

XM International, Inc.

Xuzhou CIP International Group Co., Ltd.

Yeswin Corporation

Yitian Nanjing Hardware Co., Ltd.

Yiwu Dongshun Toys Manufacture

Yiwu Excellent Import & Export Co., Ltd.

Yiwu Jiehang Import & Export Co., Ltd.

Yiwu Qiaoli Import & Export Co., Ltd.

Yiwu Richway Imp & Exp Co., Ltd.

Yiwu Zhongai Toys Co., Ltd.

Yongcheng Foreign Trade Corp.

Yu Chi Hardware Co., Ltd.

Yue Sang Plastic Factory

Yuhuan Yazheng Importing

Zhangjiagang Lianfeng Metals Products Co., Ltd.

Zhangjiagang Longxiang Packing Materials Co.

Zhaoqing Harvest Nails Co., Ltd.

Zhejiang Hungyan Xingzhou Industria

Zhejiang Jinhua Nail Factory

Zhejiang Minmetals Sanhe Imp & Exp Co.

Zhejiang Qifeng Hardware Make Co., Ltd.

Zhejiang Taizhou Eagle Machinery Co.

Zhejiang Yiwu Huishun Import/Export Co., Ltd.

Zhongshan Junlong Nail Manufactures Co., Ltd.

ZJG Lianfeng Metals Product Ltd.

[FR Doc. 2015-22065 Filed 9-3-15; 8:45 am]

BILLING CODE 3510-DS-P